DEPARTMENT OF HOMELAND SECURITY

Federal Emergency Management Agency

[Docket ID FEMA-2007-0008]

National Advisory Council; Meeting

AGENCY: Federal Emergency Management Agency, DHS.

ACTION: Committee management; notice of open Federal Advisory Committee meeting.

SUMMARY: The Federal Emergency Management Agency (FEMA) National Advisory Council (NAC) will meet in person on November 28-30, 2017 in Washington, DC. The meeting will be open to the public.

DATES: The NAC will meet Tuesday, November 28, 2017 from 8:00 a.m. to 5:00 p.m., Wednesday, November 29, 2017 from 8:30 a.m. to 5:00 p.m., and Thursday, November 30, 2017 from 8:30 a.m. to 1:00 p.m. Eastern Standard Time (EST). Please note that the meeting may close early if the NAC has completed its business.

ADDRESSES: The meeting will be held at The National Association of Counties located at 660 North Capitol Street NW., Washington, DC 20001. It is recommended that attendees register with FEMA by November 21 by providing their name, telephone number, email address, title, and organization to the person listed in FOR FURTHER INFORMATION CONTACT below.

For information on facilities or services for people with disabilities and others with access and functional needs, or to request assistance at the meeting, contact the person listed in FOR FURTHER INFORMATION CONTACT below as soon as possible.

To facilitate public participation, members of the public are invited to provide written comments on the issues to be considered by the NAC. The “Agenda” section below outlines these issues. The full agenda and any related documents for this meeting will be posted by Friday, November 17 on the NAC Web site at http://www.fema.gov/national-advisory-council. Written comments must be submitted and received by 5:00 p.m. EST on November 17, 2017, identified by Docket ID FEMA-2007-0008, and submitted by one of the following methods:

• Federal eRulemaking Portal: http://www.regulations.gov. Follow the instructions for submitting comments.

• Email: FEMA-RULES@fema.dhs.gov. Include the docket number in the subject line of the message.

• Fax: (540) 504-2331. Please include a cover sheet addressing the fax to ATTN: Deana Platt.

• Mail: Regulatory Affairs Division, Office of Chief Counsel, FEMA, 500 C Street SW., Room 8NE, Washington, DC 20472-3100.

Instructions: All submissions must include the words “Federal Emergency Management Agency” and the docket number for this action. Comments received, including any personal information provided, will be posted without alteration at http://www.regulations.gov.

Docket: For access to the docket to read comments received by the NAC, go to http://www.regulations.gov, and search for Docket ID FEMA-2007-0008.

A public comment period will be held on Wednesday, November 29 from 1:30 p.m. to 1:45 p.m. EST. All speakers must limit their comments to 5 minutes. Comments should be addressed to the NAC. Any comments not related to the agenda topics will not be considered by the NAC. To register to make remarks during the public comment period, contact the individual listed in FOR FURTHER INFORMATION CONTACT by November 17, 2017. Please note that the public comment period may end before the time indicated, following the last call for comments.

FOR FURTHER INFORMATION CONTACT: Deana Platt, Designated Federal Officer, Office of the National Advisory Council, Federal Emergency Management Agency, 500 C Street SW., Washington, DC 20472-3184, telephone (202) 646-2700, fax (540) 504-2331, and email FEMA-NAC@fema.dhs.gov. The NAC Web site is: http://www.fema.gov/national-advisory-council.

SUPPLEMENTARY INFORMATION: Notice of this meeting is given under the Federal Advisory Committee Act, 5 U.S.C. Appendix.

The NAC advises the FEMA Administrator on all aspects of emergency management. The NAC incorporates state, local, and tribal government, and private sector input in the development and revision of FEMA plans and strategies. The NAC includes a cross-section of officials, emergency managers, and emergency response providers from state, local, and tribal governments, the private sector, and nongovernmental organizations.

Agenda: On Tuesday, November 28, the NAC will hear about priorities across FEMA regions from the Region III team and receive briefings on federal insurance and mitigation as well as protection and national preparedness.

On Wednesday, November 29, the NAC will hear from the Office of Response and Recovery and will engage in an open discussion with the FEMA Administrator. The three NAC subcommittees (Federal Insurance and Mitigation Subcommittee, Preparedness and Protection Subcommittee, and Response and Recovery Subcommittee) will provide reports to the NAC about their work, whereupon the NAC will deliberate on any recommendations presented in the subcommittees' reports, and, if appropriate, vote on recommendations for the FEMA Administrator. Potential recommendation topics include (1) disaster housing and (2) disaster costs.

On Thursday, November 30, the NAC will review potential topics for research before the next in-person meeting, review agreed upon recommendations, and confirm charges for the subcommittees.

The full agenda and any related documents for this meeting will be posted by Friday, November 17 on the NAC Web site at http://www.fema.gov/national-advisory-council.

Dated: November 6, 2017.
William B. “Brock” Long,
Administrator, Federal Emergency Management Agency.

[FR Doc. 2017-24619 Filed 11-13-17; 8:45 am]

BILLING CODE 9111-48-P